DEPARTMENT OF ENERGY

Federal Energy Regulatory Commission

[Docket No. CP06-454-000]

Natural Gas Pipeline Company of America; Notice of Application for Abandonment

September 25, 2006.

Take notice that on September 14, 2006, Natural Gas Pipeline Company of America (Natural), 747 East 22nd Street, Lombard, Illinois 60148, filed an application pursuant to section 7(b) of the Natural Gas Act (NGA) for authorization to abandon, by long-term operating lease, 360 MDth per day of firm capacity in 25.73 miles of existing pipeline facilities owned by Natural and, specifically, in Natural's 8.43 mile 30-inch North Hayden Lateral, a 10.09 mile portion of Natural's 36-inch Herscher-Dyer Road Pipeline and a 7.21 mile portion of Natural's 36-inch Calumet Pipeline No. 3, all in Kankakee, Will and Cook Counties, Illinois. This application is on file with the Commission and open to public inspection.

Natural states that pursuant to a lease agreement between Natural and Kinder Morgan Illinois Pipeline LLC (KMIP) dated September 12, 2006, Natural has agreed to lease capacity in existing pipeline facilities owned by Natural to KMIP. KMIP's lease of such capacity, in conjunction with its construction of certain pipeline facilities (KMIP Project), is the subject of a separate application being filed concurrently by KMIP.¹

¹ KMIP is filing concurrently in Docket Nos. CP06-455-000, et al. a related application seeking authority to develop and operate a new pipeline system designed to transport gas for The Peoples Gas Light and Coke Company (PGLC), including the lease of capacity in existing facilities owned by Natural.

Natural states that the lease of 360 MDth per day of firm capacity by Natural to KMIP is an integral part of the KMIP Project and will avoid the construction of 25.73 miles of new 30-inch pipeline. By leasing capacity from Natural, KMIP will reduce the overall cost and improve the efficiency of the KMIP Project and will also minimize new pipeline construction and the potential for associated environmental disruption. The design capacity of KMIP's system will be 360 MDth per day. Natural further states that its existing system capacity will not be deceased by the lease, because the proposed location of 2.6 miles of new KMIP pipeline, in relation to the existing pipeline facilities of Natural, both upstream and downstream, will have the operational effect of enhancing the throughput capabilities of such existing Natural facilities.

Natural seeks abandonment authority in the present docket to coincide with the certificate authority requested by KMIP in its separate application.

Any questions regarding this application should be directed to Bruce H. Newsome, Vice President or Phillip R. Telleen, Attorney for Natural Gas Pipeline Company of America, 747 East 22nd Street, Lombard, Illinois 60148 at (630) 691-3526 and (630) 691-3749, respectively.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the date as indicated below. Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: October 16, 2006.

Magalie R. Salas,
Secretary.

[FR Doc. E6-16010 Filed 9-28-06; 8:45 am]

BILLING CODE 6717-01-P